DEPARTMENT OF DEFENSE

Department of the Army; Corps of Engineers

Intent To Prepare a Draft Environmental Impact Statement for the Construction and Operation of a 300-MW Coal-Fired Electric Generating Unit Proposed by Wisconsin Power and Light Company near Cassville in Grant County, WI

AGENCY: Department of the Army, U.S. Army Corps of Engineers, DOD.

ACTION: Notice of intent.

SUMMARY: Wisconsin Power and Light Company (WPL) has applied to the St. Paul District, Corps of Engineers (Corps) for a permit to conduct work below the ordinary high water mark of the Mississippi River, a navigable water of the U.S., and to discharge dredged or fill material into waters of the U.S. to facilitate the construction and operation of a 300 megawatt (MW) baseload coal-fired electric generating unit, referred to as NED 3, near Cassville in Grant County, WI. Specifically, the WPL is proposing an atmospheric circulating fluidized bed boiler and steam turbine generator unit at a site adjacent to the existing Nelson Dewey Generating Station (NED) Units 1 and 2 on the Mississippi River at River Mile 607.7. In addition to the new power generating unit, the following associated facilities would be constructed and operated: A new lateral collector well to supply cooling water; additional barge unloading capacity including three additional barge moorings in the Mississippi River, a new barge unloading tower foundation, and a temporary equipment barge unloading ramp; a new storm water detention pond and pipe outfall structure; 1.7-mile-long off-site parallel industrial railroad tracks, including a sheet pile retaining wall, adjacent to the existing BNSF railroad mainline tracks; new railroad bridges over two creeks for the off-site parallel industrial railroad tracks; and two new coal pile runoff ponds to replace the existing coal pile runoff pond adjacent to the railroad tracks.

The project would require the discharge of dredged or fill material into the Mississippi River and two creeks that are tributaries to the Mississippi River. The Mississippi River is a navigable water of the U.S. The discharge of dredged or fill material into waters of the U.S. requires a permit issued by the Corps under Section 404 of the Clean Water Act. Construction work conducted below the ordinary high water mark of a navigable water of the U.S. requires a permit issued by the Corps under Section 10 of the Rivers and Harbors Act. The final environmental impact statement will be used as a basis for the permit decision and to ensure compliance with the National Environmental Policy Act (NEPA).

ADDRESSES: Questions concerning the Draft Environmental Impact Statement (DEIS) can be addressed to Mr. Jon K. Ahlness, Regulatory Branch by letter at U.S. Army Corps of Engineers, 190 Fifth Street East, Suite 401, St. Paul, MN 55101-1638, by telephone or by e-mail at jon.k.ahlness@usace.army.mil.

FOR FURTHER INFORMATION CONTACT: Mr. Jon K. Ahlness, (651) 290-5381.

SUPPLEMENTARY INFORMATION: The Corps and the Public Service Commission of Wisconsin (PSCW) will jointly prepare the federal/state DEIS. The Corps is the lead federal agency and the PSCW is the lead state agency. The Wisconsin Department of Natural Resources (WDNR) is participating in the preparation of the DEIS. The Corps and the PSCW will jointly conduct two public scoping meetings to identify issues that will be addressed in the DEIS. The first public scoping meeting will be held at the Cassville Elementary School Gym, 412 Crawford St., Cassville, Wisconsin on January 30, 2008 from 6:30 p.m. to 9 p.m. The second public scoping meeting will be held at the City of Portage Municipal Building Community Room, 115 West Pleasant St., Portage, Wisconsin, on February 11, 2008 from 6:30 p.m. to 9 p.m.

We anticipate that the DEIS will be made available to the public in April of 2008. The DEIS will assess impacts of the proposed action and reasonable alternatives, identify and evaluate mitigation alternatives, and discuss potential environmental monitoring. Significant issues and resources to be identified in the DEIS will be determined through coordination with responsible federal, state, and local agencies; the general public; interested private organizations and parties; and affected Native American Tribes. Anyone who has an interest in participating in the development of the DEIS is invited to contact the St. Paul District, Corps of Engineers. Significant issues that will be addressed in the DEIS include:

1. Fish, wildlife, and ecologically sensitive resources.

2. Water resources, including: Surface water hydrology; groundwater hydrology; and waters of the U.S., including wetlands.

3. Water quality, including: Surface water runoff; and storm water management.

4. Air quality, including: Mercury emissions; and carbon dioxide emissions.

5. Cumulative impacts, including: Wildlife habitat loss; water quality; and air quality.

Additional issues of interest may be identified through the public scoping process.

Our environmental review will be conducted to meet the requirements of the National Environmental Policy Act of 1969, National Historic Preservation Act of 1966, Endangered Species Act of 1973, Section 404 of the Clean Water Act, and other applicable laws and regulations.

Dated: January 10, 2008.
Jon L. Christensen,
Colonel, Corps of Engineers District Engineer.

[FR Doc. E8-819 Filed 1-16-08; 8:45 am]

BILLING CODE 3710-CY-P